EQUAL EMPLOYMENT OPPORTUNITY COMMISSION

Meetings; Sunshine Act

Agency Holding the Meeting: Equal Employment Opportunity Commission.

Date and Time: Monday, September 8, 2003 (Two (2) Sessions—Morning Session: 9:30 a.m.-12:50 p.m., and Afternoon Session 2:10 p.m.-4:55 p.m. eastern time).

Place: Clarence M. Mitchell Conference Room on the Ninth Floor of the EEOC Office Building, 1801 “L” Street, NW., Washington, DC 20507.

Status: The meeting will be open to the public.

Matters to be considered:

Open Session

1. Announcement of Notation Votes, and

2. Panel Discussions on Repositioning for New Realities: Securing EEOC's Continued Effectiveness—Trends and Issues Driving the Need for Change

Note: Any matter not discussed or concluded may be carried over to a later meeting. (In addition to publishing notices on EEOC Commission meetings in the Federal Register, the Commission also provides a recorded announcement a full week in advance on future Commission sessions.

Please telephone (202) 663-7100 (voice) and (202) 663-4074 (TTD) at any time for information on these meetings. Contact person for more information: Frances M. Hart, Executive Officer on (202) 663-4070.

Dated: August 25, 2003.
Frances M. Hart,
Executive Officer, Executive Secretariat.

[FR Doc. 03-22024 Filed 8-25-03; 11:40 am]

BILLING CODE 6750-06-M